DEPARTMENT OF COMMERCE

National Oceanic and Atmospheric Administration

50 CFR Part 622

[Docket No. 0907271173-0629-03]

RIN 0648-XA698

Fisheries of the Caribbean, Gulf of Mexico, and South Atlantic; South Atlantic Snapper-Grouper Fishery; 2011-2012 Accountability Measures for Recreational Black Sea Bass

AGENCY: National Marine Fisheries Service (NMFS), National Oceanic and Atmospheric Administration (NOAA), Commerce.

ACTION: Temporary rule.

SUMMARY: NMFS implements accountability measures (AMs) for recreational black sea bass in the South Atlantic for the 2011-2012 fishing year through this temporary final rule. This rule reduces the 2011-2012 recreational annual catch limit (ACL) for black sea bass based on the 2010-2011 recreational ACL overage. This action is necessary to reduce overfishing of the South Atlantic black sea bass resource.

DATES: This rule is effective October 4, 2011, through May 31, 2012.

ADDRESSES: Copies of the final rule for Amendment 17B, the Environmental Assessment for Amendment 17B, and other supporting documentation may be obtained from Catherine Bruger, NMFS, Southeast Regional Office, 263 13th Avenue South, St. Petersburg, FL 33701; telephone: 727-824-5305.

FOR FURTHER INFORMATION CONTACT: Catherine Bruger, telephone: 727-824-5305, fax: 727-824-5308, e-mail: Catherine.Bruger@noaa.gov.

SUPPLEMENTARY INFORMATION: The snapper-grouper fishery of the South Atlantic is managed under the Fishery Management Plan for the Snapper-Grouper Fishery of the South Atlantic Region (FMP). The FMP was prepared by the South Atlantic Fishery Management Council (Council) and is implemented under the authority of the Magnuson-Stevens Fishery Conservation and Management Act (Magnuson-Stevens Act) by regulations at 50 CFR part 622.

Background

The 2006 reauthorization of the Magnuson-Stevens Act established new requirements that ACLs and accountability measures (AMs) be implemented to end overfishing and prevent overfishing from occurring. AMs are management controls to prevent ACLs from being exceeded, and correct or mitigate the ACL if an overage occurs.

On December 30, 2010, NMFS issued a final rule (75 FR 82280) to implement Amendment 17B to the FMP (Amendment 17B). Amendment 17B established ACLs for eight snapper-grouper species in the FMP that are undergoing overfishing, including black sea bass, and AMs if these ACLs are reached or exceeded.

The recreational ACL for black sea bass, implemented through Amendment 17B, is 409,000 lb (185,519 kg), gutted weight. In accordance with regulations at 50 CFR 622.49 (b)(5)(ii)(A), when the recreational ACL is reached or projected to be reached, and black sea bass are classified as overfished, the Assistant Administrator for Fisheries, NOAA (AA) will file a notification with the Office of the Federal Register to close the recreational sector for black sea bass for the remainder of the fishing year. In accordance with the regulations at 50 CFR 622.49 (b)(5)(ii)(B), if black sea bass recreational landings exceed the ACL, without regard to overfished status, the AA will file a notification with the Office of the Federal Register, at or near the beginning of the following fishing year, to reduce the ACL for that fishing year by the amount of the previous year's overage. Recreational landings will be evaluated relative to the ACL, in accordance with the regulations at 50 CFR 622.49 (b)(5)(ii)(C), as follows. For 2010, only 2010 recreational landings will be compared to the ACL; in 2011, the average of 2010 and 2011 recreational landings will be compared to the ACL; and in 2012 and subsequent fishing years, the most recent 3-year running average recreational landings will be compared to the ACL.

For the 2010-2011 fishing year (June 1, 2010-May 31, 2011), the recreational ACL for black sea bass was projected to be reached by February 12, 2011. In accordance with the regulations at 50 CFR 622.49 (b)(5)(ii)(A), NMFS published a temporary rule to close the black sea bass recreational sector on February 12, 2011 (76 FR 5717, February 2, 2011) for the remainder of the 2010-2011 fishing year. Additionally, recent finalized landings data from the NMFS Southeast Fisheries Science Center (SEFSC) estimate that the 2010-2011 recreational ACL was exceeded by 67,253 lb (30,505 kg), gutted weight. Therefore, NMFS reduces the black sea bass recreational sector ACL for the 2011-2012 fishing year by 67,253 lb (30,505 kg) to 341,747 lb (155,014 kg) effective October 4, 2011, through May 31, 2012.

If recreational landings during the 2011-2012 fishing year, as estimated by the SEFSC Science and Research Director (SRD), reach the revised 2011-2012 recreational ACL of 341,747 lb (155,014 kg), gutted weight, and black sea bass are overfished, the AA will file a notification with the Office of the Federal Register to close the recreational sector for black sea bass for the remainder of the fishing year. The 2012-2013 recreational ACL for black sea bass will return to the 2010-2011 recreational ACL amount, unless AMs are implemented due to an overage.

Classification

The Administrator, Southeast Region, NMFS, (RA) has determined this temporary rule is necessary for the conservation and management of the South Atlantic black sea bass component of the South Atlantic snapper-grouper fishery and is consistent with the Magnuson-Stevens Act and other applicable laws.

The temporary rule has been determined to be not significant for purposes of Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by Amendment 17B and located at 50 CFR 622.49(b)(5)(ii) authorize the AA to file a notification with the Office of the Federal Register to reduce the recreational ACL the following fishing year if an overage occurs in the prior fishing year. The final rule for Amendment 17B implementing this AM was subject to notice and comment, and all that remains is to notify the public of the reduced recreational ACL for black sea bass for the 2011-2012 fishing year. Additionally, there is a need to immediately notify the public of the reduced recreational ACL since black sea bass are overfished and undergoing overfishing and this waiver will help to provide timely notice to further protect the South Atlantic black sea bass resource. Also, providing prior notice and opportunity for public comment on this action would be contrary to the public interest because many of those affected by the recreational season ACL, particularly charter vessel and headboat operations, book trips for clients in advance and, therefore need as much time as possible to adjust business plans to account for the revised ACL.

For the aforementioned reasons, the AA also finds good cause to waive the 30-day delay in the effectiveness of this action under 5 U.S.C. 553(d)(3).

Authority: 16 U.S.C. 1801 et seq.

Dated: September 29, 2011.
Steven Thur,
Acting Director, Office of Sustainable Fisheries, National Marine Fisheries Service.

[FR Doc. 2011-25562 Filed 10-3-11; 8:45 am]

BILLING CODE 3510-22-P